DEPARTMENT OF HOUSING AND URBAN DEVELOPMENT

[Docket No. FR-4972-N-04]

Notice of Submission of Proposed Information Collection to OMB; Emergency Comment Request; Continuum of Care Homeless Assistance Grant Application

AGENCY: Office of Community Planning and Development, HUD.

ACTION: Notice of proposed information collection.

SUMMARY: The proposed information collection requirement described below has been submitted to the Office of Management and Budget (OMB) for emergency review and approval, as required by the Paperwork Reduction Act. The Department is soliciting public comments on the subject proposal.

DATES: Comments Due Date: March 21, 2005.

ADDRESSES: Interested persons are invited to submit comments regarding this proposal. Comments must be received within seven (7) days from the date of this Notice. Comments should refer to the proposal by name and should be sent to: HUD Desk Officer, Office of Management and Regulatory Affairs, Office of Management and Budget, New Executive Office Building, Washington, DC 20503.

FOR FURTHER INFORMATION CONTACT: Wayne Eddins, Paperwork Reduction Act Compliance Officer, AYO, Department of Housing and Urban Development, 451 Seventh Street, SW., Washington, DC 20410; e-mail Wayne_Eddins@HUD.gov; telephone (202) 708-2374. This is a toll-free number. Copies of documentation submitted to OMB may be obtained from Mr. Eddins.

SUPPLEMENTARY INFORMATION: This Notice informs the public that the U.S. Department of Housing and Urban Development (HUD) has submitted to OMB, for emergency processing, a proposed information collection requirement as described below. This Notice is soliciting comments from members of the public and affecting agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond; including through the use of appropriate automated collection techniques or other forms of information technology, e.g., permitting electronic submission of responses.

This notice also lists the following information:

Title of Proposal: Continuum of Care Homeless Assistance Grant Application.

Description of Information Collection: Revised Application for Continuum of Care Homeless Assistance Grants. Information to be used in the rating, ranking and selection of proposals submitted to HUD by State and local governments, public housing authorities, and nonprofit organizations for awarded funds under the Continuum of Care Homeless Assistance programs.

OMB Control Number: To be assigned.

Agency Form Numbers: HUD-40076 CoC-A thru HUD-40076 CoC-N, HUD-40076 CoC-2A thru HUD-40076 CoC-21, HUD 40076 CoC-2RA thru HUD 40076 CoC-2RD, HUD 40076 CoC-3A thru HUD 40076 CoC-3H, HUD 40076 CoC-3RA thru HUD 40076 CoC-3RE, HUD 40076 CoC-4A thru HUD 40076 CoC-4E, plus standard grant application forms SF-424, SF-424 SUPP, HUD-96010, HUD-2991, HUD-2992, HUD-2880, HUD-92041, HUD-27300, OMB-SF-LLL.

Members of Affected Public: Eligible applicants interested in applying for Continuum of Care Homeless Assistance funds.

Estimation of the Total Number of Hours Needed To Prepare the Information Collection: Program staff determines that it will take approximately 190,729.

Status: Revision of a currently approved collection.

Authority: The Paperwork Reduction Act of 1995, 44 U.S.C. chapter 35, as amended.

Dated: March 9, 2005.
Nelson Bregón,
General Deputy Assistant Secretary, Community Planning and Development.

[FR Doc. 05-4972 Filed 3-11-05; 8:45 am]

BILLING CODE 4210-29-M